DEPARTMENT OF ENERGY

Federal Energy Regulatory Commission

[Docket No. IS04-487-000]

Sabine Propylene Pipeline L.P.; Notice Requesting Briefs

August 2, 2004.

On July 30, 2004, the Commission issued an order in the above-captioned proceeding requesting briefs addressing a jurisdictional issue raised by the proposal of Sabine Propylene Pipeline L.P., to cancel its tariff covering the transportation of polymer grade propylene. See Sabine Propylene Pipeline L.P., 108 FERC ¶ 61,099 (2004).

Specifically, the Commission requested briefs on whether the Commission has jurisdiction over the transportation of polymer grade propylene by oil pipelines. Initial briefs are due 30 days from the date of issuance of the July 30, 2004 orders. Because that day falls on Sunday, August 29, 2004, however, interested parties must intervene and file initial briefs no later than August 30, 2004. Reply briefs are due 15 days thereafter, which is September 14, 2004.

Magalie R. Salas,
Secretary.

[FR Doc. E4-1741 Filed 8-9-04; 8:45 am]

BILLING CODE 6717-01-P